DEPARTMENT OF AGRICULTURE

Submission for OMB Review; Comment Request

October 1, 2007.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Rural Housing Service

Title: Form RD 1940-59, Settlement Statement.

OMB Control Number: 0575-0088.

Summary of Collection: The real Estate Settlement Procedures Act (RESPA), as amended, requires the disclosure of real estate settlement costs to real estate buyers and sellers. Disclosure of the nature and costs of a mortgage transaction enables the borrower to be a more informed customer and protects the public from unnecessarily high settlement charges.

Need and Use of the Information: Form RD 1940-49 is completed by Settlement Agents, Closing Attorneys, and Title Insurance Companies performing the closing of RHS loans and credit sales use to purchase or refinance Section 502 Housing, Rural Rental Housing, and Farm Laboring Housing. The same parties performing the closing of FSA Farm Ownership loans and credit sales complete the form. The information is collected to provide the buyer and the seller with a statement detailing the actual costs of the settlement services involved in certain Agency financed real estate transactions. Failure to collect the information and disclose the information would be a violation of the RESPA.

Description of Respondents: Business or for-profit.

Number of Respondents: 11,928.

Frequency of Responses: Reporting: On occasion.

Total Burden Hours: 7,530.

Charlene Parker,
Departmental Information Collection Clearance Officer.

[FR Doc. E7-19628 Filed 10-3-07; 8:45 am]

BILLING CODE 3410-XT-P